DEPARTMENT OF HOUSING AND URBAN DEVELOPMENT

[Docket No. FR-5157-N-02]

Mortgagee Review Board Administrative Actions Termination of Lender Approval for Renewal Noncompliance

AGENCY: Office of the Assistant Secretary for Housing-Federal Housing Commissioner, HUD.

ACTION: Notice.

SUMMARY: In compliance with section 202(c) of the National Housing Act, and 24 CFR 25.10, this notice advises of the cause and description of certain administrative actions taken by HUD's Mortgagee Review Board (MRB) against HUD-approved mortgagees. The MRB terminated 123 Title I and Title II lender approvals during the six month period ending March 31, 2007, for failure to submit an acceptable annual audited financial statement and/or payment of the annual fee required to renew their FHA lender approval.

FOR FURTHER INFORMATION CONTACT: Joy Hadley, Director, Office of Lender Activities and Program Compliance, 451 Seventh Street, SW., Room B-133-P3214, Washington, DC 20410-8000, telephone: (202) 708-1515. (This is not a toll-free number.) A Telecommunications Device for Hearing- and Speech-Impaired Individuals (TTY) is available at (800) 877-8339 (Federal Information Relay Service).

SUPPLEMENTARY INFORMATION: Section 202(c)(5) of the National Housing Act (added by section 142 of the Department of Housing and Urban Development Reform Act of 1989, Pub. L. 101-235, approved December 15, 1989), and 23 CFR 25.10 requires that HUD publish a description of and the cause for administrative actions against a HUD-approved mortgagee by the Department's Mortgagee Review Board. The MRB terminated 123 Title I and Title II lender approvals during the six month period ending March 31, 2007, for failure to submit an acceptable annual audited financial statement and/or payment of the annual fee required to renew their FHA lender approval.

ACTION: Termination of HUD/FHA Title I and Title II lender approval.

CAUSE: Failure to submit an acceptable annual audited financial statement and/or payment of the annual fee required to renew their FHA lender approval.

—
Approval type | FHA ID | Lender name | City | St
Title II | 1007600008 | ADVANTAGE ONE MORTGAGE BROKERS INC | ROGERS | AR
Title II | 2063800000 | AKEYGENT MORTGAGE LLC | OKLAHOMA CITY | OK
Title II | 1610900006 | ALL STAR MORTGAGE INC | PLANO | TX
Title II | 1045200004 | ALLERTON FINANCIAL CORP | BLOOMFIELD HILLS | MI
Title I | 7251200007 | AMERIBANC CORPORATION | MEDFORD | OR
Title II | 1054400008 | AMERIBANC CORPORATION | MEDFORD | OR
Title II | 7832800005 | AMERICAN CALIF FIN SERV INC | TORRANCE | CA
Title II | 1652600009 | AMERICAN DEBT REDUCTION | MARSHFIELD | WI
Title II | 1772800000 | AMERICAN HOME FINANCE | EDEN PRAIRIE | MN
Title II | 1151800006 | AMERICAN HOME LOANS EXPRESS | LONG BEACH | CA
Title II | 1476600003 | AMERICAN LENDING RESOURCE INC | TEMECULA | CA
Title II | 7675300005 | AMERICAN MORTGAGE PROFESSIONALS INC | ESCONDIDO | CA
Title I | 7117900006 | AMERICAN MORTGAGE SERVICES INC | MILLINGTON | TN
Title II | 2373500007 | AMERICAN SECURE MORTGAGE LLC | FORT WORTH | TX
Title II | 1847700000 | AMERIHOME MORTGAGE CORPORATION | SAN BERNARDINO | CA
Title II | 1504900009 | APPLIED RESEARCH CAPITAL CORP | VILLA PARK | IL
Title II | 1883400005 | ASPECT LLC | AUSTIN | TX
Title II | 2108100000 | AT HOME DISCOUNT MORTGAGE INC | NORTH SALT LAKE | UT
Title II | 2112300002 | AVA MORTGAGE INC | HUNTERSVILLE | NC
Title I | 7386900000 | AVENTUS INC | TUKWILA | WA
Title II | 2096200009 | AVENTUS INC | TUKWILA | WA
Title I | 7348700001 | BANKERS ACCEPTANCE MORTGAGE CORP | SPRINGFIELD | MO
Title II | 7753200009 | BOTTOMLINE MORTGAGE INC | MONROVIA | CA
Title II | 7181100008 | BOULDER FINANCIAL CORPORATION | UPLAND | CA
Title II | 1039000005 | BRENWARD MORTGAGE CORPORATION | CERRITOS | CA
Title II | 1923300009 | C U MEMBERS MORTGAGE CORPORATION | EAST HAVEN | CT
Title II | 6441109991 | CAL COAST MORTGAGE CORP. | SAN DIEGO | CA
Title I | 7253300003 | CALIFORNIA EMPIRE FUNDING CORP | RANCHO CUCAMONGA | CA
Title II | 7756700002 | CALIFORNIA EMPIRE FUNDING CORP | RANCHO CUCAMONGA | CA
Title II | 7149400009 | CALIFORNIA MORTGAGE SPECIALISTS INC | SUSANVILLE | CA
Title II | 2092200003 | CAPITOL CITY MORTGAGE INCORPRATED | CARMEL | IN
Title II | 2106100008 | CARDINAL BANC MORTGAGE CORP | BRECKSVILLE | OH
Title II | 1392700001 | CB TOWNE CENTER FINANCIAL | CERRITOS | CA
Title II | 7417800006 | CLARK-ALLENBACH GROUP | SAN DIEGO | CA
Title II | 2085700009 | COAST2COAST MORTGAGE SPECIALISTS LTD | GLEN ELLYN | IL
Title I | 7192800006 | COMMUNITY FINANCIAL INC | CLAREMONT | CA
Title II | 7560400002 | COMPASS MORTGAGE INC | CHARLESTON | SC
Title I | 7274100002 | CONSTITUTION MORTGAGE CORP | TUSTIN | CA
Title II | 7905900004 | CONSTITUTION MORTGAGE CORP | TUSTIN | CA
Title II | 7058100004 | CORONA MORTGAGE | CORONA | CA
Title I | 7378400001 | CYPRESS POINT FUNDING INC | WOODLAND HILLS | CA
Title II | 1967200006 | CYPRESS POINT FUNDING INC | WOODLAND HILLS | CA
Title II | 1508800004 | EAGLE FUNDING GROUP LTD | CHANTILLY | VA
Title I | 7220600006 | EST FIN SERVICES INC | SOUTH GATE | CA
Title II | 7983600004 | EST FIN SERVICES INC | SOUTH GATE | CA
Title II | 1280200002 | EXECUTIVE HOME LOAN INC | SANTA ANA | CA
Title II | 2115800006 | EXPRESS FUNDING CORP | PARMA HEIGHTS | OH
Title II | 1385000006 | FIDUCIAL LENDING CORPORATION | INDIANAPOLIS | IN
Title II | 7870900006 | FIRST AMERICAN FUNDING INC | BALTIMORE | MD
Title II | 1914600009 | FIRST FUNDING MORTGAGE INC | YORBA LINDA | CA
Title II | 1787200005 | FIRST INTERSTATE MORTGAGE | AMERICAN FORK | UT
Title I | 7300600009 | GOLD CROWN HOME LOANS INC | GLENDALE | CA
Title II | 1239800004 | GOLD CROWN HOME LOANS INC | GLENDALE | CA
Title II | 2354200004 | GOLDEN MORTGAGE FINANCIAL SERVICES | SAN JUAN | PR
Title II | 1968200002 | GREAT LAKES CREDIT UNION | NORTH CHICAGO | IL
Title II | 1223000000 | GREATER ATLANTIC MORTGAGE CORP | VIENNA | VA
Title II | 0322109994 | GUARANTY LOAN AND REAL ESTATE | WEST MEMPHIS | AR
Title I | 7302100008 | HEARTLAND FUNDING CORP | SPRINGFIELD | MO
Title II | 2353500000 | HILLMAN & REECE CORPORATION | AURORA | CO
Title II | 1955200005 | HOMELEND MORTGAGE COMPANY INC | HOLLAND | OH
Title II | 1282600009 | HOMESTEAD MORTGAGE CORP | NORTH READING | MA
Title II | 7660600008 | IMPERIAL LENDERS CORPORATION | MIAMI | FL
Title II | 1763900000 | INTEGRITY MORTGAGE GROUP INC | HURST | TX
Title II | 7931100006 | INTERBANK MORTGAGE CORP | HUNTINGTON BEACH | CA
Title I | 7345700004 | J J AND D FINANCIAL SERVICES INC | BUENA PARK | CA
Title II | 1605300004 | J J AND D FINANCIAL SERVICES INC | BUENA PARK | CA
Title I | 7363100004 | JB MORTGAGE MARKET INC | DUBLIN | CA
Title II | 1777500005 | JB MORTGAGE MARKET INC | DUBLIN | CA
Title II | 1909400001 | JPO FUNDING INC | EULESS | TX
Title II | 1279400003 | JT ENTERPRISES | HUNTINGTON BEACH | CA
Title II | 1158800000 | KERN CENTRAL CREDIT UNION | BAKERSFIELD | CA
Title II | 1912300004 | KNR MORTGAGE INC | ALBUQUERQUE | NM
Title II | 7879700001 | LAGUNA FUNDING CORPORATION | ONTARIO | CA
Title II | 7744400009 | LEGACY FINANCIAL GROUP INC | ARLINGTON | TX
Title II | 1661700001 | LENDERS FINANCIAL MORTGAGE CORP | DAVIE | FL
Title II | 1894900004 | MAIDSTONE MORTGAGE | DOWNEY | CA
Title II | 7915200006 | MAJOR MORTGAGE | CHEYENNE | WY
Title II | 1641500003 | MESA FINANCIAL INC | ANAHEIM | CA
Title II | 7942100000 | MILDOR CORPORATION | VICTORIA | TX
Title II | 1600800007 | MONEY TREE MORTGAGE BANKERS USA INC | MIAMI | FL
Title II | 7167700005 | MONTICELLO BANK | JACKSONVILLE | FL
Title II | 1780600004 | MURRAY MORTGAGE INCORPORATED | DALLAS | TX
Title II | 1430400000 | NATIONS FUNDING GROUP | ATLANTA | GA
Title II | 2335200004 | NATIONS MORTGAGE CORPORATION | SALT LAKE CITY | UT
Title II | 2290900004 | NATIONWIDE MORTGAGE GROUP INC | SOUTHFIELD | MI
Title II | 1152300008 | NATIONWIDE REALTY SERVICES INC | SAN DIEGO | CA
Title II | 7313700006 | NORTH SUBURBAN MORTGAGE CORP | BROOMFIELD | CO
Title II | 1135500002 | ODICO INC | LOS ANGELES | CA
Title II | 1256900002 | PARK PLACE MORTGAGE CORP | LIVONIA | MI
Title II | 2705009995 | PHILADELPHIA FREEDOM CORP | LAS VEGAS | NV
Title II | 1340600007 | PRIME EQUITY ACCESS CORP | GRAND RAPIDS | MI
Title II | 2314300002 | QUALIFIED MORTGAGE SOLUTIONS, L.P. | PALM BEACH GARDENS | FL
Title II | 2022700000 | QUOTEMEARATE.COM | HOUSTON | TX
Title II | 1657700001 | R SANCHEZ FINANCIAL INC | RANCHO CUCAMONGA | CA
Title II | 1336900006 | REGENCY MORTGAGE CO | BIRMINGHAM | AL
Title II | 7520600001 | REPUBLIC MORTGAGE CORPORATION | TROY | MI
Title I | 7177600009 | SAN DIEGO SOUTHLAND EQUITIES LTD | SAN DIEGO | CA
Title II | 7811400009 | SAN DIEGO SOUTHLAND EQUITIES LTD | SAN DIEGO | CA
Title II | 1120500002 | SCOTT RESIDENTIAL SERVICES INC | CITRUS HEIGHTS | CA
Title II | 2257500002 | SFMCPS INC | DURHAM | NC
Title I | 7086600009 | SHASTA FINANCIAL SERVICES INC | ELK GROVE | CA
Title II | 2343200000 | SILVERSTONE MORTGAGE INC | HOUSTON | TX
Title II | 1337500002 | SIMPLICITY FUNDING INC | DALLAS | TX
Title II | 7423200003 | SMI SOUTHERN MORTGAGE INC | BIRMINGHAM | AL
Title II | 1291000005 | ST CLOUD MORTGAGE | SANTA CLEMENTE | CA
Title II | 2229000006 | STARMARK FINANCIAL LLC | SOUTHFIELD | MI
Title II | 2079700006 | STRATE FINANCIAL SERVICES LLC | DENVER | CO
Title II | 1777400009 | SUMMIT CAPITAL GROUP INC | PACIFIC GROVE | CA
Title II | 1187300004 | SUPERIOR LENDING CORP | PLANO | TX
Title II | 1981200004 | SUPERIOR MORTGAGE INC | EDEN PRAIRIE | MN
Title II | 1789900004 | TAILOR-MADE MORTGAGE CORP | MENIFEE | CA
Title II | 7518300001 | TRUST MORTGAGE COMPANY INC | WALTHAM | MA
Title II | 2274300008 | UFS FINANCIAL GROUP INC | DALLAS | TX
Title II | 1909800005 | UNION MORTGAGE INC | ARLINGTON | TX
Title I | 7082100004 | UNIVERSAL SAVINGS BANK FA | MILWAUKEE | WI
Title II | 7182600009 | VALLEY BANK MARYLAND | HUNT VALLEY | MD
Title I | 7198900008 | VALLEYSOURCE MORTGAGE INC | BAKERSFIELD | CA
Title II | 7882200000 | VALLEYSOURCE MORTGAGE INC | BAKERSFIELD | CA
Title II | 7373900007 | VILLAGE ASSOCIATES MORTGAGE INC | BIRMINGHAM | MI
Title II | 7849900009 | VOYAGEUR FINANCIAL INC | PRIOR LAKE | MN
Title II | 1987900009 | WENTWORTH MORTGAGE CORPORATION | PLYMOUTH | MI
Title II | 2330000000 | WEST MICHIGAN MORTGAGE AND FINANCIAL SER | GRAND RAPIDS | MI
Title II | 7207000003 | WESTERN CAPITAL ASSOCIATES | SAN DIEGO | CA

Dated: August 3, 2007.
Brian D. Montgomery,
Assistant Secretary for Housing—Federal Housing Commissioner, Chairman Mortgagee Review Board.

[FR Doc. E7-15742 Filed 8-10-07; 8:45 am]

BILLING CODE 4210-67-P